DEPARTMENT OF COMMERCE

Submission for OMB Review; Comment Request

The Department of Commerce has submitted to the Office of Management and Budget (OMB) for clearance the following proposal for collection of information under the emergency provisions of the Paperwork Reduction Act (44 U.S.C. Chapter 35).

Agency: Technology Administration.

Title: Global Positioning System (GPS) Industry Study.

Form Number(s): None.

OMB Approval Number: None.

Type of Review: Emergency submission.

Burden Hours: 250.

Number of Respondents: 200.

Average Hours Per Response: 1.25 hours.

Needs and Uses: This information is to be collected from all known producers of Global Positioning System (GPS) equipment. It will be used to develop a public report describing the size and characteristics of the GPS manufacturing industry, and its economic impact on the United States. The dissemination of this information will provide a service to businesses and investors involved in the GPS industry. The information will also be used within the U.S. Government to inform ongoing policy and budget decisions related to the GPS program.

Affected Public: Business and for-profit organizations.

Frequency: One-time.

Respondent's Obligation: Voluntary.

OMB Desk Officer: Kristy LaLonde, (202) 395-3087.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by June 16, 2004 to Kristy LaLonde, OMB Desk Officer, FAX number 202-395-5806, or KLaLonde@omb.eop.gov.

Dated: June 4, 2004.
Gwellnar Banks,
Management Analyst, Office of the Chief Information Officer.

[FR Doc. 04-13101 Filed 6-9-04; 8:45 am]

BILLING CODE 3510-18-P